DEPARTMENT OF HEALTH AND HUMAN SERVICES

Administration for Community Living

Notice of Intent To Award a Single Source Non-Competing Continuation Cooperative Agreement for two Alzheimer's Disease Supportive Services Program (ADSSP) Projects

Program Name: Alzheimer's Disease Supportive Services Program.

Award Amount: $625,809.

Project Period: September 30, 2015 through September 29, 2016.

Award Type: Cooperative Agreement.

Statutory Authority: Public Law 78-410: 42 U.S.C. 280c-3. It was amended by Public Law 101-557 and by Public Law 105-392.

Catalog of Federal Domestic Assistance (CFDA) Number: 93.051.

Program Description

The Administration for Community Living (ACL) is announcing its intent to award single source non-competing continuation cooperative agreements to two Alzheimer's Disease Supportive Services Program (ADSSP) projects. Resources dedicated to the ADSSP grant program are restricted to the support of grants to states designed to expand the availability of dementia-capable support services for persons with Alzheimer's disease and related dementias (ADRD), their families and caregivers.

There are currently 15 active ADSSP grantees engaged in the development of dementia-capable systems in their state to support individuals with ADRD and their caregivers. ACL will provide additional resources to support the expansion of promising program activities under existing ADSSP projects in the states of Minnesota and Ohio. Both the Minnesota and Ohio grantees are engaged in projects that are building the dementia-capability of their state systems that merit expansion. The state of Minnesota will expand on their existing program efforts to build strong linkages between a Health Care Partner (HCP) and Community Based Organizations (CBO). The state of Ohio will expand on their existing ADSSP project goal to enrich the lives of veterans suffering from cognitive and physical challenges and their caregivers by expanding Ohio's Music & Memory℠ program living in their homes and communities.

Justification: ACL is committed to the success, continued expansion and sustainability of ADSSP projects. Each of the identified existing cooperative agreement projects has components within them from which the communities that they serve will benefit and merit uninterrupted expansion. To ensure uninterrupted continuation toward achieving and exceeding their goals and objectives and expansion of program efforts, ACL plans to issue one-year non-competing awards to both the Minnesota Board on Aging and the Ohio Department on Aging.

I. Agency Contact

For further information or comments regarding this action, contact Erin Long, U.S. Department of Health and Human Services, Administration for Community Living, Administration on Aging, Washington, DC 20201; telephone (202) 357-3448; fax (202) 357-3549; email Erin.Long@acl.hhs.gov.

Dated: August 11, 2015.
Kathy Greenlee,
Assistant Secretary for Aging.

[FR Doc. 2015-20796 Filed 8-21-15; 8:45 am]

BILLING CODE 4154-01-P